DEPARTMENT OF ENERGY

Agency Information Collection

AGENCY: U.S. Department of Energy.

ACTION: Notice of request for comments.

SUMMARY: The Department of Energy (DOE) invites public comment on a proposed collection of information that DOE is developing for submission to the Office of Management and Budget (OMB) pursuant to the Paperwork Reduction Act of 1995.

DATES: Comments regarding this proposed information collection must be received on or before March 14, 2025. If you anticipate any difficulty in submitting comments within that period, contact the person listed in the FOR FURTHER INFORMATION CONTACT section as soon as possible.

ADDRESSES: Written comments may be sent to Colin Cunliff, Director, Strategic Analysis, Office of Energy Efficiency and Renewable Energy; 1000 Independence Avenue SW, Washington, DC 20585 or by email at strategicanalysis@ee.doe.gov.

FOR FURTHER INFORMATION CONTACT: Colin Cunliff, Director, Strategic Analysis, Office of Energy Efficiency and Renewable Energy; 1000 Independence Avenue SW, Washington, DC 20585; strategicanalysis@ee.doe.gov; (240) 255-8802.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-NEW;

(2) Information Collection Request Title: Greenhouse Gas Emissions Value Analysis;

(3) Type of Request: New collection;

(4) Purpose: DOE seeks to collect information from electricity producers in order to provide such electricity producers with an emissions value that a qualifying facility may use to petition the Internal Revenue Service (IRS) for a Provisional Emissions Rate (PER) and claim the section 45Y or 48E tax credits. DOE will share relevant information collected with one or more National Laboratories as needed so those Laboratories can perform the required emissions analysis. Likely respondents include owners of electricity generating facilities or energy storage technology, as defined in 26 U.S.C. 45Y, 48E;

(5) Annual Estimated Number of Respondents: 20;

(6) Annual Estimated Number of Total Responses: 20;

(7) Annual Estimated Number of Burden Hours: 800;

(8) Annual Estimated Reporting and Recordkeeping Cost Burden: $77,368.

Statutory Authority: 26 U.S.C. 45Y, 48E; 26 CFR 1.45Y, 1.48E

Signing Authority

This document of the Department of Energy was signed on January 6, 2025, by Francisco Moreno, Associate Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 7, 2025.
Jennifer Hartzell,
Alternate Federal Register Liaison Officer, U.S. Department of Energy.

[FR Doc. 2025-00500 Filed 1-10-25; 8:45 am]

BILLING CODE 6450-01-P